NATIONAL ARCHIVES AND RECORDS ADMINISTRATION

[NARA-2017-050]

Agency Information Collection Activities: Proposed Collection; Comment Request

AGENCY: National Archives and Records Administration (NARA).

ACTION: Notice of proposed extension request.

SUMMARY: NARA proposes to request an extension from the Office of Management and Budget (OMB) of approval to use a voluntary survey of visitors to our downtown facility in Washington, DC. We use the American Association of State and Local History (AASLH) customer survey to ask a random sample of visitors to the National Archives Museum whether the Museum is successfully achieving its goals, and to help us determine if we need to make any modifications to our services. The survey takes 12 minutes. We invite you to comment on certain aspects of this proposed information collection.

DATES: We must receive written comments on or before August 14, 2017.

ADDRESSES: Send comments to Paperwork Reduction Act Comments (MP), Room 4100; National Archives and Records Administration; 8601 Adelphi Road; College Park, MD 20740-6001, or email them to tamee.fechhelm@nara.gov.

FOR FURTHER INFORMATION CONTACT: Contact Tamee Fechhelm by telephone at 301-837-1694, or by email at tamee.fechhelm@nara.gov, with requests for additional information or copies of the proposed information collection and supporting statement.

SUPPLEMENTARY INFORMATION: We invite the public and Federal agencies to comment on information collections we propose to renew. We submit proposals to renew information collections first through a public comment period and then to OMB for review and approval pursuant to the Paperwork Reduction Act of 1995 (PRA; 44 U.S.C. 3501 et. seq.). We will summarize or include in our request for OMB approval any comments you submit in response to this notice. We invite comments on: (a) Whether the proposed information collection is necessary for NARA to properly perform its functions, including whether the information will have practical utility; (b) our estimate of the information collection's burden on respondents; (c) ways to enhance the quality, utility, and clarity of the information we propose to collect; (d) ways to minimize the burden on respondents of collecting the information, including through use of information technology; and (e) whether this collection affects small businesses. We will summarize any comments you submit and include the summary in our request for OMB approval. All comments will become a matter of public record. In this notice, NARA solicits comments concerning the following information collection:

Title: NARA Visitors Study.

OMB number: 3095-0067.

Agency form number: n/a.

Type of review: Regular.

Affected public: Individuals who visit the National Archives Museum in Washington, DC.

Estimated number of respondents: 200.

Estimated time per response: 12 minutes.

Frequency of response: On occasion (when an individual visits the National Archives Museum in Washington, DC between July-October 2018 and July-October 2020).

Estimated total annual burden hours: 40 hours.

Abstract: The general purpose of this voluntary data collection is to benchmark NARA's performance in relation to other history museums. The information we collect from visitors will allow us to assess the overall impact, expectations, presentation, logistics, motivation, demographic profile, and learning experience visitors receive from the visit, and to determine whether we are meeting our goals.

Swarnali Haldar,
Executive for Information Services/CIO.

[FR Doc. 2017-12249 Filed 6-13-17; 8:45 a.m.]

BILLING CODE 7515-01-P